DEPARTMENT OF EDUCATION

Submission for OMB Review; Comment Request

AGENCY: Department of Education.

ACTION: Correction notice.

SUMMARY: On February 27, 2004, the Department of Education published a 30-day public comment period notice in the Federal Register (Page 9306, Column 1) for the information collection, “What Works Clearinghouse Database Forms and Customer Survey”. A second notice with this title also appeared on Page 9306, Column 3. This notice is incorrect. Please disregard it.

FOR FURTHER INFORMATION CONTACT: Sheila Carey at her e-mail address Sheila.Carey@ed.gov

Dated: March 1, 2004.
Angela C. Arrington,
Leader, Regulatory Information Management Group, Office of the Chief Information Officer.

[FR Doc. 04-4852 Filed 3-3-04; 8:45 am]

BILLING CODE 4000-01-P